ENVIRONMENTAL PROTECTION AGENCY

[EPA-HQ-OLEM-2018-0691, FRL-10837-01-OMS]

Agency Information Collection Activities; Submission to the Office of Management and Budget for Review and Approval; Comment Request; Standardized Permit for RCRA Hazardous Waste Management Facilities (Renewal)

AGENCY: Environmental Protection Agency.

ACTION: Notice.

SUMMARY: The Environmental Protection Agency (EPA) has submitted an information collection request (ICR), Standardized Permit for RCRA Hazardous Waste Management Facilities (EPA ICR Number 1935.07, OMB Control Number 2050-0182) to the Office of Management and Budget (OMB) for review and approval in accordance with the Paperwork Reduction Act. This is a proposed extension of the ICR, which is currently approved through March 31, 2023. Public comments were previously requested via the Federal Register on July 15, 2022 during a 60-day comment period. This notice allows for an additional 30 days for public comments.

DATES: Comments may be submitted on or before April 24, 2023.

ADDRESSES: Submit your comments, referencing Docket ID No. EPA-HQ-OLEM-2018-0691, to EPA, either online using www.regulations.gov (our preferred method), or by mail to: RCRA Docket (2822T), U.S. Environmental Protection Agency, 1200 Pennsylvania Avenue NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Jeff Gaines, Environmental Protection Agency, 1200 Pennsylvania Ave. NW, Washington, DC 20460; telephone number: 202-566-0332; gaines.jeff@epa.gov.

SUPPLEMENTARY INFORMATION: This is a proposed extension of the ICR, which is currently approved through March 31, 2023. An agency may not conduct or sponsor and a person is not required to respond to a collection of information unless it displays a currently valid OMB control number.

Public comments were previously requested via the Federal Register (87 FR 42460) on July 15, 2022 during a 60-day comment period. This notice allows for an additional 30 days for public comments. Supporting documents, which explain in detail the information that the EPA will be collecting, are available in the public docket for this ICR. The docket can be viewed online at www.regulations.gov. Materials can also be viewed at the Reading Room located at the EPA Docket Center, WJC West Building, Room 3334, 1301 Constitution Avenue NW, Washington, DC 20004. The Docket Center's hours of operations are 8:30 a.m.-4:30 p.m., Monday-Friday (except Federal Holidays). The telephone number for the Docket Center is 202-566-1744.

Abstract: Under the authority of sections 3004, 3005, 3008 and 3010 of the Resource Conservation and Recovery Act (RCRA), as amended, EPA revised the RCRA hazardous waste permitting program to allow a “standardized permit.” The standardized permit is available to facilities that generate hazardous waste and routinely manage the waste on-site in non-thermal units such as tanks, containers, and containment buildings. In addition, the standardized permit is available to facilities that receive hazardous waste generated off-site by a generator under the same ownership as the receiving facility, and then store or non-thermally treat the hazardous waste in containers, tanks, or containment buildings. The RCRA standardized permit consists of two components: a uniform portion that is included in all cases, and a supplemental portion that the Director of a regulatory agency includes at his or her discretion. The uniform portion consists of terms and conditions, relevant to the unit(s) at the permitted facility, and is established on a national basis. The Director, at his or her discretion, may also issue a supplemental portion on a case-by-case basis. The supplemental portion imposes site-specific permit terms and conditions that the Director determines necessary to institute corrective action under section 264.101 (or state equivalent), or otherwise necessary to protect human health and the environment. Owners and operators have to comply with the terms and conditions in the supplemental portion, in addition to those in the uniform portion.

Form Numbers: None.

Respondents/affected entities: Entities potentially affected by this action are business or other for-profit.

Respondent's obligation to respond: Voluntary (40 CFR 270.275).

Estimated number of respondents: 1.

Frequency of response: One time.

Total estimated burden: 218 hours per year. Burden is defined at 5 CFR 1320.03(b).

Total estimated cost: $19,873 (per year), includes $693 annualized capital or operation & maintenance costs.

Changes in the Estimates: There is no change in hour burden included in this ICR. There is a slight increase in capital/O&M costs due to updated estimates.

Courtney Kerwin,
Director, Regulatory Support Division.

[FR Doc. 2023-06115 Filed 3-23-23; 8:45 am]

BILLING CODE 6560-50-P